Title 3—

The President

Presidential Determination No. 2005-05 of October 20, 2004

Presidential Determination Relating to Obligation of Cooperative Threat Reduction Funds in Albania under Section 1308 of the National Defense Authorization Act for Fiscal Year 2004

Memorandum for the Secretary of State

Pursuant to section 1308(e) of the National Defense Authorization Act for Fiscal Year 2004 (Title XIII of Public Law 108-136) and the authority vested in me by section 1203(d) of the Cooperative Threat Reduction Act of 1993 (Title XII of Public Law 103-160), as amended (CTR Act), I hereby certify that Albania is committed to the courses of action enumerated in section 1203(d) of the CTR Act.

I have also enclosed the justification for this certification.

You are authorized and directed to transmit this certification and justification to the Congress and to arrange for the publication of this memorandum in the Federal Register.

B

THE WHITE HOUSE,

Washington, October 20, 2004.

[FR Doc. 04-24672

Filed 11-02-04; 8:45 am]

Billing code 4710-10-P